DEPARTMENT OF TRANSPORTATION

Federal Aviation Administration

Commercial Space Transportation Advisory Committee—Public Teleconference

AGENCY: Federal Aviation Administration (FAA), DOT.

ACTION: Notice of Commercial Space Transportation Advisory Committee Teleconference.

SUMMARY: Pursuant to Section 10(a)(2) of the Federal Advisory Committee Act (Pub. L. 92-463, 5 U.S.C. App. 2), notice is hereby given of a teleconference of the Space Transportation Operations Working Group (STOWG) of the Commercial Space Transportation Advisory Committee (COMSTAC). The teleconference will take place on Wednesday, July 21, 2010, starting at 1:30 p.m. Eastern Daylight Time. Individuals who plan to participate should contact Susan Lender, DFO, (the Contact Person listed below) by phone or e-mail for the teleconference call in number.

The proposed agenda for this teleconference will feature the action items from the May 19, 2010 meeting held at the National Housing Center, 1201 15th Street, NW., Washington, DC 20005. These include:

1. Examine the top issues and articulate what they mean and how STOWG wants to address them.

2. Look at five questions from last October on the cost impact of second stages complying voluntarily with orbital debris management. STOWG wants to complete this action.

3. Review the Conops report.

Interested members of the public may submit relevant written statements for the COMSTAC members to consider under the advisory process. Statements may concern the issues and agenda items mentioned above or additional issues that may be relevant for the U.S. commercial space transportation industry. Interested parties wishing to submit written statements should contact Susan Lender, DFO, (the Contact Person listed below) in writing (mail or e-mail) by July 15, 2010, so that the information can be made available to COMSTAC members for their review and consideration before the July 21, 2010, teleconference. Written statements should be supplied in the following formats: One hard copy with original signature or one electronic copy via e-mail.

An agenda will be posted on the FAA Web site at http://www.faa.gov/go/ast.

Individuals who plan to participate and need special assistance should inform the Contact Person listed below in advance of the meeting.

FOR FURTHER INFORMATION CONTACT: Susan Lender (AST-100), Office of Commercial Space Transportation (AST), 800 Independence Avenue SW., Room 331, Washington, DC 20591, telephone (202) 267-8029; E-mail susan.lender@faa.gov. Complete information regarding COMSTAC is available on the FAA Web site at: http://www.faa.gov/about/office_org/headquarters_offices/ast/advisory_committee/.

Issued in Washington, DC.
George C. Nield,
Associate Administrator for Commercial Space Transportation.

[FR Doc. 2010-16254 Filed 7-2-10; 8:45 am]

BILLING CODE 4910-13-P